NATIONAL SCIENCE FOUNDATION

National Science Board; Sunshine Act Meetings; Notice

The National Science Board's Task Force on Data Policies (DP), pursuant to NSF regulations (45 CFR Part 614), the National Science Foundation Act, as amended (42 U.S.C. 1862n-5), and the Government in the Sunshine Act (5 U.S.C. 552b), hereby gives notice in regard to the scheduling of a workshop for the transaction of National Science Board business and other matters specified, as follows:

DATE, TIME AND SUBJECT MATTER:

March 28, 2011

8:00 Welcome, Board Processes, and Participant Introductions

8:20-10 Session I: The Vision of Data-Intensive Science

10:15-12 Session II: Reproducibility, First Steps and Guiding Principles

12:30 High Performance Cyberinfrastructure is Needed to Enable Data-Intensive Science and Engineering

1-3 Session III: Exemplars, Lessons Learned

3:15-5:30 Session IV: Impacts

March 29, 2011

8:30 National Science Foundation Perspective

8:45-10:30 Session V: Policy Issues

10:45-11 Public Comment Period

11-12:30 Session IV: Policy Issues (continued)

12:30 Adjourn

STATUS: Open.

LOCATION: This workshop/meeting will be held at the National Science Foundation, 4201 Wilson Blvd., Room 1235, Arlington, VA 22230. All visitors must contact the Board Office [call 703-292-7000 or send an e-mail message to nationalsciencebrd@nsf.gov] at least 24 hours prior to the teleconference and provide name and organizational affiliation. All visitors must report to the NSF visitor desk located in the lobby at the 9th and N. Stuart Streets entrance on the day of the teleconference to receive a visitor's badge.

UPDATES & POINT OF CONTACT: Please refer to the National Science Board Web site http://www.nsf.gov/nsb for additional information and schedule updates (time, place, subject matter or status of meeting) may be found at http://www.nsf.gov/nsb/notices/. Point of contact for this meeting is: Blane Dahl, National Science Board Office, 4201 Wilson Blvd., Arlington, VA 22230. Telephone: (703) 292-7000.

Daniel A. Lauretano,
Counsel to the National Science Board.

[FR Doc. 2011-6637 Filed 3-17-11; 11:15 am]

BILLING CODE 7555-01-P